DEPARTMENT OF THE INTERIOR

Fish and Wildlife Service

DEPARTMENT OF COMMERCE

National Oceanic and Atmospheric Administration

[FWS-R1-R-2008-N0233; 1265-0000-10137-S3]

Papahāanaumokuaākea Marine National Monument, Hawai‘i

AGENCIES: Fish and Wildlife Service (FWS), Interior; National Oceanic and Atmospheric Administration (NOAA), Commerce.

ACTION: Notice of availability of the monument management plan, environmental assessment, and findings of no significant impact.

SUMMARY: This notice advises the public that NOAA, FWS, the State of Hawai‘i's Department of Land and Natural Resources (DLNR), and the Office of Hawai‘ian Affairs have completed a Monument Management Plan (MMP) for the Papahāanaumokuaākea Marine National Monument (Monument) located in the Northwestern Hawai‘ian Islands (NWHI). The Monument's resources, and current and future management activities, are described in the MMP and associated environmental assessment (EA). The NOAA and FWS developed separate findings of no significant impact (FONSIs) to address each agency's MMP/EA findings. Both FONSIs are available with the MMP/EA.

DATES: The MMP/EA and FONSIs are now available. Implementation of the MMP is effective and may begin immediately.

ADDRESSES: Printed copies of the MMP/EA and FONSIs are available for viewing at NOAA's Papahāanaumokuaākea Marine National Monument office at 6600 Kalaniana‘ole Highway, Suite 300, Honolulu, HI 96825, and may be obtained by visiting or writing to the office or by telephone at (808) 397-2660. These documents are also available on compact disk from the Monument, and for viewing and downloading on the Internet at http://papahanaumokuakea.gov, and http://www.fws.gov/pacific/planning/. Additional documents developed as part of the MMP/EA planning process that specifically support FWS programs and environmental compliance requirements are also available on http://www.fws.gov/pacific/planning/.

FOR MORE INFORMATION CONTACT: Susan White, FWS Superintendent, phone (808) 792-9480.

SUPPLEMENTARY INFORMATION:

Monument Background

On June 15, 2006, President George W. Bush established the NWHI Marine National Monument by issuing Presidential Proclamation 8031 (Proclamation) (71 FR 36443, June 26, 2006) under the authority of the Antiquities Act of June 8, 1906 (34 Stat. 225, 16 U.S.C. 431) (the Act).

On December 8, 2006, the Secretaries of Commerce and the Interior and the Governor of Hawai‘i signed a Memorandum of Agreement to jointly manage Federal and State lands and waters within the Monument as Co-Trustees and to collectively protect, conserve, and enhance the Monument's marine and terrestrial habitats and resources.

On February 28, 2007, President Bush amended the Proclamation to rename the Monument the Papahāanaumokuaākea Marine National Monument to reflect the region's significance in Native Hawai‘ian culture (72 FR 10031, March 6, 2007).

Location, Size, and Federal and State Resource Management

Proclamation 8031 reserves all lands and interests in lands owned or controlled by the Government of the United States in the NWHI, including emergent and submerged lands and waters out to a distance of approximately 50 nautical miles from the islands.

The Monument is approximately 100 nautical miles wide and 1,200 miles in length, and extends around coral islands, seamounts, banks, and shoals. The Monument encompasses the following areas.

• Northwestern Hawai‘ian Islands Coral Reef Ecosystem Reserve.

• Midway Atoll National Wildlife Refuge/Battle of Midway National Memorial.

• Hawai‘ian Islands National Wildlife Refuge.

• Hawai‘i State Seabird Sanctuary at Kure Atoll.

• State of Hawai‘i's Northwestern Hawai‘ian Islands Marine Refuge.

The NOAA maintains responsibility for managing the NWHI Coral Reef Ecosystem Reserve, included within the Monument, and has primary responsibility regarding the management of the marine areas of the Monument, in consultation with FWS.

Refuge lands within the Monument, including the Midway Atoll National Wildlife Refuge, the Battle of Midway National Memorial, and the Hawaiian Islands National Wildlife Refuge, are managed by FWS.

The State maintains responsibility for managing state lands and waters within the Monument including NWHI State Marine Refuge and State Seabird Sanctuary at Kure Atoll.

Public Comments

The Draft MMP/EA was distributed for public review and comments for 90 days, from April 23, 2008, to July 23, 2008. Public meetings were held during the review period to provide the public opportunities to ask staff questions and provide comments and recommendations. A total of ten meetings were held on six different islands and in Washington, DC. as follows: Three meetings on O‘ahu, two meetings on the Island of Hawai‘i, and one meeting each on Maui, Lāna‘i, Moloka‘i, and Kaua‘i, and one meeting in Washington, DC. A total of 231 people attended the public meetings; 78 individuals provided public testimony and one recorded comments on a tape recorder. Comments given at these public meetings were recorded in transcripts taken by court reporters. In addition, written comments were accepted via e-mail, individual letters, and form letters throughout the review period. Comments received via individual e-mail totaled 76, individual letters totaled 30, and e-mail form letters totaled 6,246, for a total of 6,352 comment communications. Changes made to the MMP and associated documents based on public comments are summarized in Volume V, Response to Comments.

MMP Action Plans

Two alternatives were analyzed in the Draft MMP/EA; a No Action Alternative and a Proposed Action Alternative (the preferred alternative). Under the No Action Alternative, the Co-Trustees would continue to implement activities to address priority management needs based on agency-specific plans. Under the Proposed Action Alternative, the Co-Trustees would implement new and expanded activities, in addition to ongoing activities, to manage high priority needs. The Proposed Action was selected for implementation.

The MMP describes a comprehensive and coordinated management regime to achieve the Monument's vision, mission, and guiding principles and to address priority management needs over the next 15 years. The MMP will be reviewed and updated every five years. The core of the MMP is contained in 22 action plans consisting of multiple strategies and activities to address specific priority management needs and to achieve the following desired outcomes:

Understanding and Interpreting the NWHI

• Marine Conservation Science. Protect the ecological integrity of natural resources by increasing the understanding of the distributions, abundances and functional linkages of marine organisms and their habitats to improve ecosystem-based management decisions in the Monument.

• Native Hawaiian Culture and History. Increase understanding and appreciation of Native Hawaiian histories and cultural practices related to the Monument and effectively manage resources for their cultural, educational, and scientific values.

• Historic Resources. Identify, document, preserve, protect, stabilize, and where appropriate, reuse, recover, and interpret historic resources associated with Midway Atoll and other areas within the Monument.

• Maritime Heritage. Identify, interpret, and protect maritime heritage resources in the Monument.

Conserving Wildlife and Habitats

• Threatened and Endangered Species. Safeguard and recover threatened and endangered plants and animals and other protected species within the Monument.

• Migratory Birds. Conserve migratory bird populations and habitats within the Monument.

• Habitat Management and Conservation. Protect and maintain all the native ecosystems and biological diversity of the Monument.

Reducing Threats to Monument Resources

• Marine Debris. Reduce the adverse effects of marine debris to Monument resources and reduce the amount of debris entering the North Pacific Ocean.

• Alien Species. Detect, control, eradicate where possible, and prevent the introduction of alien species into the Monument.

• Maritime Transportation and Aviation. Investigate, identify, and reduce potential threats to the Monument from maritime and aviation traffic.

• Emergency Response and Natural Resource Damage Assessment (NRDA). Minimize damage to Monument resources through coordinated emergency response and NRDA.

Managing Human Uses

• Permitting. Implement an effective and integrated permit program for the Monument that manages, minimizes, and prevents negative human impacts by limiting access only for those activities consistent with Proclamation 8031 and the applicable laws, regulations, and executive orders.

• Enforcement. Achieve compliance with all regulations within the Monument.

• Midway Atoll Visitor Services. Offer visitors opportunities to discover, honor, enjoy, appreciate, and protect Monument natural, cultural, and historic resources.

Coordinating Conservation and Management Activities

• Agency Coordination. Successfully collaborate with government partners to achieve publicly supported, coordinated management in the Monument.

• Constituency Building and Outreach. Cultivate an informed, involved constituency that supports and enhances conservation of the natural, cultural, and historic resources of the Monument.

• Native Hawaiian Community Involvement. Engage the Native Hawaiian community in active and meaningful involvement in Monument management.

• Ocean Ecosystems Literacy. Cultivate an ocean ecosystems stewardship ethic, contribute to the Nation's science and cultural literacy, and create a new generation of conservation leaders through formal environmental education.

Achieving Effective Monument Operations

• Central Operations. Conduct effective and well-planned operations with appropriate human resources and adequate physical infrastructure in the main Hawaiian Islands to support management of the Monument.

• Information Management. Consolidate and make accessible relevant information to meet educational, management, and research needs for the Monument.

• Coordinated Field Operations. Coordinate field activities and provide adequate infrastructure to ensure safe and efficient operations while avoiding impacts to the ecosystems in the Monument.

• Evaluation. Determine the degree to which management actions are achieving the vision, mission, and goals of the Monument.

Dated: December 11, 2008.
David J. Wesley,
Acting Regional Director, Fish and Wildlife Service, Region 1, Portland, Oregon.
Daniel J. Basta,
Director, Office of National Marine Sanctuaries, National Oceanic and Atmospheric Administration, Silver Spring, Maryland.

[FR Doc. E8-31303 Filed 1-2-09; 8:45 am]

BILLING CODE 4310-55-P